DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by April 4, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: Sierra Endangered Cat Haven, Dunlap, CA, PRT-135919.

The applicant requests a permit to import two captive-born male cheetahs (Acinonyx jubatus) from the DeWildt Cheetah and Wildlife Trust, South Africa for the purpose of enhancement of the survival of the species.

Applicant: Nashville Zoo, Nashville, TN, PRT-145446.

The applicant requests a permit to import two males and two female captive-born clouded leopards (Neofelis nebulosa) from Khao Kheow Open Zoo, Chonburi, Thailand for the purpose of enhancement of the species through captive breeding.

Applicant: Panther Ridge Sanctuary, Wellington, FL, PRT-128590.

The applicant requests a permit to import two captive-born male cheetahs (Acinonyx jubatus) from the Savannah Cheetah Foundation, South Africa for the purpose of enhancement of the survival of the species.

Applicant: U.S. Geological Survey, National Wildlife Health Center, Madison, WI, PRT-048370.

The applicant requests a permit to import multiple shipments of biological samples from wild or captive-held, or captive-born specimens of any endangered species for the purpose of scientific research. No animals can be intentionally killed for the purpose of collecting specimens. Any invasively collected sample can only be collected by trained personnel. This notification covers activities conducted by the applicant over a period of 5 years.

Applicant: Wildlife Conservation Society, Field Veterinary Program, Bronx, NY, PRT-033594.

The applicant requests a permit to import multiple shipments of biological samples from wild or captive-held or captive-born specimens of any endangered species for the purpose of scientific research. No animals can be intentionally killed for the purpose of collecting specimens. Any invasively collected sample can only be collected by trained personnel. This notification covers activities conducted by the applicant over a period of 5 years.

Applicant: University of Florida, Museum of Natural History, Gainesville, FL, PRT-146577.

The applicant requests a permit to import biological samples from Nile Crocodile (Crocodylus niloticus), slender-snouted crocodile (Crocodylus cataphractus) and dwarf crocodile (Osteolaemus tetraspis) collected from both wild and captive animals in Cote D' Ivoire and Ghana, for the purpose of scientific research.

Applicant: Memphis Zoo, Memphis, TN, PRT-146704.

The applicant requests a permit to import one captive-born male Sumatran orangutan (Pongo pygmaeus abelii) from the Toronto Zoo, Ontario, Canada, for the purpose of enhancement of the survival of the species and captive propagation.

Applicant: Robert H. Clark, Spring Lake, MI, PRT-146530.

The applicant requests a permit to import the sport-hunted trophy of one male bontebok (Damaliscus pygargus pygargus) culled from a captive herd maintained under the management program of the Republic of South Africa, for the purpose of enhancement of the survival of the species.

Applicant: Nicholas H. Altman, Houston, TX, PRT-143415.

The applicant requests a permit to import the sport-hunted trophy of one male bontebok (Damaliscus pygargus pygargus) culled from a captive herd maintained under the management program of the Republic of South Africa, for the purpose of enhancement of the survival of the species.

Applicant: Mark D. Crowther, Lilburn, GA, PRT-144846.

The applicant requests a permit to import the sport-hunted trophy of one male bontebok (Damaliscus pygargus pygargus) culled from a captive herd maintained under the management program of the Republic of South Africa, for the purpose of enhancement of the survival of the species.

Applicant: New York State Museum, Albany, NY, PRT-140174.

The applicant requests a permit to export and re-import non-living museum specimens of endangered and threatened species previously accessioned into the applicant's collection for scientific research. This notification covers activities to be conducted by the applicant over a five-year period.

Dated: February 9, 2007.
Michael L. Carpenter,
Senior Permit Biologist, Branch of Permits, Division of Management Authority.

[FR Doc. E7-3736 Filed 3-2-07; 8:45 am]

BILLING CODE 4310-55-P